DEPARTMENT OF COMMERCE

National Oceanic and Atmospheric Administration

Fisheries of the South Atlantic; South Atlantic Fishery Management Council and Mid-Atlantic Fishery Management Council; Public Meeting

AGENCY: National Marine Fisheries Service (NMFS), National Oceanic and Atmospheric Administration (NOAA), Commerce.

ACTION: Notice of a public meeting.

SUMMARY: The South Atlantic Fishery Management Council, in conjunction with the Mid-Atlantic Fishery Management Council, will hold a Question and Answer (Q&A) public meeting to address cobia management issues in Kill Devil Hills, NC.

DATES: The Cobia Q&A public meeting will be held beginning at 6 p.m. on May 9, 2016.

ADDRESSES:

Meeting address: The meeting will be held at the Hilton Garden Inn Outer Banks/Kitty Hawk, 5353 N. Virginia Dare Trail, Kitty Hawk, NC 27949; phone: (252) 261-1290; fax: (252) 255-0153. The meeting will be broadcast via webinar as it occurs. Registration is required and information will be posted on the South Atlantic Council's Web site at www.safmc.net as it becomes available.

Council addresses: South Atlantic Fishery Management Council, 4055 Faber Place Drive, Suite 201, N. Charleston, SC 29405; Mid-Atlantic Fishery Management Council, 800 North State Street, Suite 201, Dover, DE 19901.

FOR FURTHER INFORMATION CONTACT: Kim Iverson, Public Information Officer, SAFMC; phone: (843) 571-4366 or toll free: (866) SAFMC-10; fax: (843) 769-4520; email: kim.iverson@safmc.net.

SUPPLEMENTARY INFORMATION: The recreational fishery for Atlantic migratory group cobia is scheduled to close on June 20, 2016. The closure applies to those fishing for cobia recreationally in federal waters from Georgia to New York from a private vessel, charter vessel, or headboat. The closure is the result of accountability measures required by federal regulations to protect the cobia resource and prevent overfishing. The 2015 recreational catch was 1,540,775 pounds, 123% over the recreational Annual Catch Limit (ACL) of 690,000 pounds.

The scheduled recreational closure has caused concerns from fishermen, particularly those from North Carolina and Virginia where the closure will have negative economic and social impacts due to the seasonality of the fishery. As a result, the two Councils will host a Cobia Q&A public meeting to provide information and help address questions and concerns. Council staff will give a presentation that includes an overview of the Council federal management process, historical management of cobia, and information about current cobia management and the pending recreational closure. The presentation will also include an overview of future management actions for cobia currently under consideration by the South Atlantic Council. Council staff and area Council members will be available to answer questions following the presentation.

Written comments should be directed to Gregg Waugh, Executive Director, South Atlantic Fishery Management Council, 4055 Faber Place Drive, Suite 201, N. Charleston, SC 29405. Email comments to Mike.Collins@safmc.net with the Subject Line “Cobia Comments”. FAX comments to (843) 769-4520. Comments must be received in the Council office by 5 p.m. on May 20, 2016.

Special Accommodations

This meeting is physically accessible to people with disabilities. Requests for auxiliary aids should be directed to the Council office (see ADDRESSES) 5 days prior to the meeting.

Note: The times and sequence specified in this agenda are subject to change.

Authority: 16 U.S.C. 1801 et seq.

Dated: April 12, 2016.
Tracey L. Thompson,
Acting Deputy Director, Office of Sustainable Fisheries, National Marine Fisheries Service.

[FR Doc. 2016-08779 Filed 4-14-16; 8:45 am]

BILLING CODE 3510-22-P